DEPARTMENT OF HOMELAND SECURITY

Coast Guard

[Docket No. USCG-2008-0333]

Delaware River and Bay Oil Spill Advisory Committee; Meeting

AGENCY: Coast Guard, DHS.

ACTION: Notice of meeting.

SUMMARY: The Delaware River and Bay Oil Spill Advisory Committee (DRBOSAC) will meet in Philadelphia, PA to discuss various issues to improve oil spill prevention and response strategies for the Delaware River and Bay. This meeting will be open to the public.

DATES: The Committee will meet on Wednesday, March 18, 2009, from 10 a.m. to 1 p.m. Written material and requests to make oral presentations should reach the Coast Guard on or before March 11, 2009. Requests to have a copy of your material distributed to each member of the committee should reach the Coast Guard on or before March 11, 2009.

ADDRESSES: The Committee will meet at Coast Guard Sector Delaware Bay, 1 Washington Ave., Philadelphia, PA 19147. Send written material and requests to make oral presentations to Gerald Conrad, liaison to the Designated Federal Officer (DFO) of the DRBOSAC, at the address above. This notice and any documents identified in the Supplementary Information section as being available in the docket may be viewed online, at http://www.regulations.gov, using docket number USCG-2008-0333.

FOR FURTHER INFORMATION CONTACT: Gerald Conrad, liaison to the DFO of the DRBOSAC, telephone 215-271-4824.

SUPPLEMENTARY INFORMATION: Notice of this meeting is given under the Federal Advisory Committee Act, 5 U.S.C. App. (Pub. L. 92-463).

Agenda of the Meeting

The agenda for the meeting will be as follows:

(1) Opening comments.

(2) Introductions.

(3) Administrative announcements.

(4) Debriefs from each DRBOSAC Sub-committee.

(5) Future Committee business.

(6) Closing.

More information and detail on the meeting will be available at the committee Web site, located at http://www.uscg.mil/d5/sectDelawarebay/DRBOSAC.asp. Additional detail may be added to the agenda up to March 11, 2009.

Procedural

This meeting will be open to the public. All persons entering the building will have to present identification and may be subject to screening. Please note that the meeting may close early if all business is finished.

The public will be able to make oral presentations during the meeting when given the opportunity to do so. The public may file written statements with the committee; written material should reach the Coast Guard no later than March 11, 2009. If you would like a copy of your material distributed to each member of the committee in advance of the meeting, please submit 35 copies to the liaison to the DFO no later than March 11, 2009.

Please register your attendance with the liaison to the DFO no later than March 11, 2009.

Information on Services for Individuals With Disabilities

For information on facilities, or services for individuals with disabilities, or to request special assistance at the meeting, contact the Liaison to the DFO as soon as possible.

Dated: February 22, 2009.
David L. Scott,
Captain, U.S. Coast Guard, Commander, Sector Delaware Bay, Designated Federal Officer.

[FR Doc. E9-4351 Filed 2-27-09; 8:45 am]

BILLING CODE 4910-15-P